DEPARTMENT OF TRANSPORTATION

Federal Aviation Administration

14 CFR Part 39

[Docket No. FAA-2016-9128; Directorate Identifier 2016-NE-19-AD]

RIN 2120-AA64

Airworthiness Directives; CFM International S.A. Turbofan Engines

AGENCY: Federal Aviation Administration (FAA), DOT.

ACTION: Notice of proposed rulemaking (NPRM).

SUMMARY: We propose to adopt a new airworthiness directive (AD) for certain CFM International S.A. (CFM) CFM56-5B turbofan engines. This proposed AD was prompted by reports of the failure of the radial drive shaft (RDS) on CFM CFM56-5B engines. This proposed AD would require removal of the RDS assembly and the RDS outer housing and their replacement with parts eligible for installation. We are proposing this AD to prevent failure of the RDS, which could lead to failure of one or more engines, loss of thrust control, and damage to the airplane.

DATES: We must receive comments on this proposed AD by December 16, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact CFM International Inc., Aviation Operations Center, 1 Neumann Way, M/D Room 285, Cincinnati, OH 45125; phone: 877-432-3272; fax: 877-432-3329; email: aviation.fleetsupport@ge.com. You may view this service information at FAA, Engine & Propeller Directorate, 1200 District Avenue, Burlington, MA. For information on the availability of this material at the FAA, call 781-238-7125.

Examining the AD Docket

You may examine the AD docket on the Internet at http://www.regulations.gov by searching for and locating Docket No. FAA-2016-9128; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Kyle Gustafson, Aerospace Engineer, Engine Certification Office, FAA, Engine & Propeller Directorate, 1200 District Avenue, Burlington, MA 01803; phone: 781-238-7183; fax: 781-238-7199; email: kyle.gustafson@faa.gov.

SUPPLEMENTARY INFORMATION:

Comments Invited

We invite you to send any written relevant data, views, or arguments about this proposal. Send your comments to an address listed under the ADDRESSES section. Include “Docket No. FAA-2016-9128; Directorate Identifier 2016-NE-19-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received 9 reports of failure of the RDS on CFM CFM56-5B engines. CFM has identified an affected population of RDSs suspected of generating unbalance levels that would lead to failure of the RDS bearing. This proposed AD would require removal of the RDS assembly and the RDS outer housing for the affected population. This condition, if not corrected, could result in failure of the RDS, which could lead to failure of one or more engines, loss of thrust control, and damage to the airplane.

Related Service Information Under 1 CFR Part 51

We reviewed CFM Service Bulletin (SB) CFM56-5B S/B 72-0934, dated August 1, 2016. The service information describes procedures for removal of the suspect RDS assembly and the RDS outer housing. This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would require removal of the RDS assembly and the RDS outer housing and their replacement with parts eligible for installation.

Differences Between This Proposed AD and the Service Information

CFM SB CFM56-5B S/B 72-0934, dated August 1, 2016, separates the affected RDS population into three batches with different removal dates for each batch. This proposed AD requires removal of the affected RDS assembly and RDS outer housing within 6 months of the effective date after this AD.

Costs of Compliance

We estimate that this proposed AD affects eight engines installed on airplanes of U.S. registry.

We estimate the following costs to comply with this proposed AD:

Estimated Costs
Action | Labor cost | Parts cost | Cost per product | Cost on U.S. operators
Removal and replacement of the RDS assembly and RDS outer housing | 6 work-hours × $85 per hour = $510 | $37,000 | $37,510 | $300,080

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

CFM International S.A.: Docket No. FAA-2016-9128; Directorate Identifier 2016-NE-19-AD.

(a) Comments Due Date

We must receive comments by December 16, 2016.

(b) Affected ADs

None.

(c) Applicability

This AD applies to CFM International S.A. (CFM) CFM56-5B series, CFM56-5B/P series, CFM56-5B/3 series, CFM56-5B/2P series, CFM56-5B/P1 series, CFM56-5B/2P1 series, and CFM56-5B/3B1 series engines with a radial drive shaft (RDS) serial number (S/N) listed in Appendix A of CFM Service Bulletin (SB) CFM56-5B S/B 72-0934, dated August 1, 2016, installed.

(d) Subject

Air Transport Association (ATA) of America Code 83, Accessory Gearboxes.

(e) Unsafe Condition

This AD was prompted by reports of the failure of the RDS on CFM CFM56-5B engines. We are issuing this AD to prevent failure of the RDS, which could lead to failure of one or more engines, loss of thrust control, and damage to the airplane.

(f) Compliance

Comply with this AD within the compliance times specified, unless already done.

Within 6 months after the effective date of this AD, remove the RDS assembly, part number (P/N) 305-165-101-0, and RDS outer housing, P/N 301-295-106-0, and replace with parts eligible for installation.

(g) Installation Prohibition

After the effective date of this AD, do not install on any engine an RDS with an S/N identified in Appendix A of CFM S/B No. CFM56-5B S/B 72-0934, dated August 1, 2016.

(h) Alternative Methods of Compliance (AMOCs)

The Manager, Engine Certification Office, FAA, may approve AMOCs for this AD. Use the procedures found in 14 CFR 39.19 to make your request. You may email your request to: ANE-AD-AMOC@faa.gov.

(i) Related Information

(1) For more information about this AD, contact Kyle Gustafson, Aerospace Engineer, Engine Certification Office, FAA, Engine & Propeller Directorate, 1200 District Avenue, Burlington, MA 01803; phone: 781-238-7183; fax: 781-238-7199; email: kyle.gustafson@faa.gov.

(2) CFM SB CFM56-5B S/B 72-0934, dated August 1, 2016, can be obtained from CFM using the contact information in paragraph (i)(3) of this proposed AD.

(3) For service information identified in this AD, contact CFM International Inc., Aviation Operations Center, 1 Neumann Way, M/D Room 285, Cincinnati, OH 45125; phone: 877-432-3272; fax: 877-432-3329; email: aviation.fleetsupport@ge.com.

(4) You may view this service information at the FAA, Engine & Propeller Directorate, 1200 District Avenue, Burlington, MA. For information on the availability of this material at the FAA, call 781-238-7125.

Issued in Burlington, Massachusetts, on October 21, 2016.
Colleen M. D'Alessandro,
Manager, Engine & Propeller Directorate, Aircraft Certification Service.

[FR Doc. 2016-26010 Filed 10-31-16; 8:45 am]

BILLING CODE 4910-13-P